SECURITIES AND EXCHANGE COMMISSION

[File No. 500-1]

In the Matter of Amanda Company, Inc., American International Petroleum Corp., China Continental, Inc., Com21, Inc., Cycomm International, Inc., DeMarco Energy Systems of America, Inc., Eco Soil Systems, Inc., Edulink, Inc., H. Quotient, Inc., Healthtrac, Inc., Management Technologies, Inc., Metal Recovery Technologies, Inc., Paystar Corp., Royal Oak Mines, Inc., Rubber Technology International, Inc., Seven Seas Petroleum, Inc., Surebeam Corp., Syncronys Softcorp, Touch America Holdings, Inc., U.S. Plastic Lumber Corp., and Xcelera, Inc.; Order of Suspension of Trading

August 28, 2006.

It appears to the Securities and Exchange Commission that there is a lack of current and accurate information concerning the securities of Amanda Company, Inc. because it has not filed any periodic reports since the period ended December 31, 2002.

It appears to the Securities and Exchange Commission that there is a lack of current and accurate information concerning the securities of American International Petroleum Corp. because it has not filed any periodic reports since the period ended September 30, 2002.

It appears to the Securities and Exchange Commission that there is a lack of current and accurate information concerning the securities of China Continental, Inc. because it has not filed any periodic reports since the period ended September 30, 2003.

It appears to the Securities and Exchange Commission that there is a lack of current and accurate information concerning the securities of Com21, Inc. because it has not filed any periodic reports since the period ended March 31, 2003.

It appears to the Securities and Exchange Commission that there is a lack of current and accurate information concerning the securities of Cycomm International, Inc. because it has not filed any periodic reports since the period ended September 30, 2002.

It appears to the Securities and Exchange Commission that there is a lack of current and accurate information concerning the securities of DeMarco Energy Systems of America, Inc. because it has not filed any periodic reports since the period ended September 30, 2003.

It appears to the Securities and Exchange Commission that there is a lack of current and accurate information concerning the securities of Eco Soil Systems, Inc. because it has not filed any periodic reports since the period ended March 31, 2001.

It appears to the Securities and Exchange Commission that there is a lack of current and accurate information concerning the securities of Edulink, Inc. because it has not filed any periodic reports since the period ended September 30, 2003.

It appears to the Securities and Exchange Commission that there is a lack of current and accurate information concerning the securities of H Quotient, Inc. because it has not filed any periodic reports since the period ended September 30, 2003.

It appears to the Securities and Exchange Commission that there is a lack of current and accurate information concerning the securities of Healthtrac, Inc. because it has not filed any periodic reports since the period ended November 30, 2003.

It appears to the Securities and Exchange Commission that there is a lack of current and accurate information concerning the securities of Management Technologies, Inc. because it has not filed any periodic reports since the period ended October 31, 1997.

It appears to the Securities and Exchange Commission that there is a lack of current and accurate information concerning the securities of Metal Recovery Technologies, Inc. because it has not filed any periodic reports since the period ended September 30, 1998.

It appears to the Securities and Exchange Commission that there is a lack of current and accurate information concerning the securities of Paystar Corp. because it has not filed any periodic reports since the period ended September 30, 2002.

It appears to the Securities and Exchange Commission that there is a lack of current and accurate information concerning the securities of Royal Oak Mines, Inc. because it has not filed any periodic reports since the period ended September 30, 1998.

It appears to the Securities and Exchange Commission that there is a lack of current and accurate information concerning the securities of Rubber Technology International, Inc. because it has not filed any periodic reports since the period ended August 31, 2003.

It appears to the Securities and Exchange Commission that there is a lack of current and accurate information concerning the securities of Seven Seas Petroleum, Inc. because it has not filed any periodic reports since the period ended September 30, 2002.

It appears to the Securities and Exchange Commission that there is a lack of current and accurate information concerning the securities of Surebeam Corp. because it has not filed any periodic reports since the period ended March 31, 2003.

It appears to the Securities and Exchange Commission that there is a lack of current and accurate information concerning the securities of Syncronys Softcorp because it has not filed any periodic reports since the period ended March 31, 1998.

It appears to the Securities and Exchange Commission that there is a lack of current and accurate information concerning the securities of Touch America Holdings, Inc. because it has not filed any periodic reports since the period ended September 30, 2002.

It appears to the Securities and Exchange Commission that there is a lack of current and accurate information concerning the securities of U.S. Plastic Lumber Corp. because it has not filed any periodic reports since the period ended September 30, 2003.

It appears to the Securities and Exchange Commission that there is a lack of current and accurate information concerning the securities of Xcelera, Inc. because it has not filed any periodic reports since the period ended January 31, 2003.

The Commission is of the opinion that the public interest and the protection of investors require a suspension of trading in the securities of the above-listed companies.

Therefore, it is ordered, pursuant to Section 12(k) of the Securities Exchange Act of 1934, that trading in the securities of the above-listed companies, including trading in the debt securities of Seven Seas Petroleum, Inc., is suspended for the period from 9:30 a.m. EDT on August 28, 2006, through 11:59 p.m. EDT on September 11, 2006.

By the Commission.
Jill M. Peterson,
Assistant Secretary.

[FR Doc. 06-7299 Filed 8-28-06; 1:22 pm]

BILLING CODE 8010-01-P